DEPARTMENT OF AGRICULTURE

Animal and Plant Health Inspection Service

[Docket No. APHIS-2019-0059]

Notice of Request for Extension of Approval of an Information Collection; Importation of Pork-Filled Pasta Products

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the regulations for the importation of pork-filled pasta products into the United States.

DATES: We will consider all comments that we receive on or before November 25, 2019.

ADDRESSES: You may submit comments by either of the following methods:

• Federal eRulemaking Portal: Go to http://www.regulations.gov/#!docketDetail;D=APHIS-2019-0059.

• Postal Mail/Commercial Delivery: Send your comment to Docket No. APHIS-2019-0059, Regulatory Analysis and Development, PPD, APHIS, Station 3A-03.8, 4700 River Road, Unit 118, Riverdale, MD 20737-1238.

Supporting documents and any comments we receive on this docket may be viewed at http://www.regulations.gov/#!docketDetail;D=APHIS-2019-0059 or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the regulations for the importation of pork-filled pasta products, contact Dr. Magde S. Elshafie, Senior Staff Veterinarian, Strategy & Policy, VS, APHIS, 4700 River Road, Unit 40, Riverdale, MD 20737; (301) 851-3332. For copies of more detailed information on the information collection, contact Mr. Joseph Moxey, APHIS' Information Collection Coordinator, at (301) 851-2483.

SUPPLEMENTARY INFORMATION:

Title: Importation of Pork-Filled Pasta Products.

OMB Control Number: 0579-0214.

Type of Request: Extension of approval of an information collection.

Abstract: Under the Animal Health Protection Act (7 U.S.C. 8301 et seq.), the Animal and Plant Health Inspection Service (APHIS) of the U.S. Department of Agriculture (USDA) is authorized, among other things, to prohibit or restrict the importation and interstate movement of animals, animal products, and other articles to prevent the introduction into and dissemination within the United States of animal diseases and pests. To fulfill this mission, APHIS regulates the importation of animals and animal products into the United States under the regulations in 9 CFR parts 91 through 99.

The regulations in 9 CFR part 94 (referred to below as the regulations) prohibit or restrict the importation of specified animals and animal products into the United States to prevent the introduction into the U.S. livestock population of certain contagious animal diseases, including swine vesicular disease (SVD). Section 94.12 of the regulations contains, among other things, specific processing, recordkeeping, and certification requirements for pork-filled pasta products exported to the United States from regions affected with SVD. These requirements include information collection activities such as a certificate, recordkeeping, cooperative service agreement, and storage requirements.

The regulations require, among other things, that the pork-filled pasta products be accompanied by a certificate stating that the product has been handled and processed according to the requirements set forth in the regulations. This certificate must be issued and signed by an official of the national government of the region in which the pork-filled pasta products were processed.

In addition, the processing facility where the pork-filled pasta products are produced must maintain original records for a minimum of 2 years for each lot of pork or pork products used. The records must include the date the cooked or dry-cured pork product was received in the processing facility, the lot number or other identification marks, the health certificate that accompanied the cooked or dry-cured pork from the slaughter/processing facility to the meat-filled pasta product processing facility, and the date the pork or pork product used in the pasta either started dry-curing (if the product used is a dry-cured ham) or the date the product was cooked (if the product used is a cooked pork product). The records must also include the number of packages, the number of hams or cooked pork products per package, and the weight of each package. These records would provide important information in any trace-back investigation that may need to be conducted by officials of the region of origin of the pork-filled pasta product or by USDA officials.

The operator of a foreign processing establishment must enter into a cooperative service agreement with APHIS stating that: (1) The establishment agrees to process pork in accordance with the regulations; (2) the establishment will allow APHIS representatives unannounced entry into the establishment to inspect the facility, operations, and records of the establishment; and (3) the establishment will pay for the costs of the associated inspections and be current on the payments. Also, any storage room area reserved for pork or pork products eligible for export to the United States must, among other things, be marked by signs.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of Burden: The public burden for this collection of information is estimated to average 1 hour per response.

Respondents: Officials of the national government of the region in which the pork-filled pasta is processed and operators of pork-filled pasta product processing facilities.

Estimated Annual Number of Respondents: 2.

Estimated Annual Number of Responses per Respondent: 2.5.

Estimated Annual Number of Responses: 5.

Estimated Total Annual Burden on Respondents: 5 hours. (Due to averaging, the total annual burden hours may not equal the product of the annual number of responses multiplied by the reporting burden per response.)

All responses to this notice will be summarized and included in the request for OMB approval. All comments will also become a matter of public record.

Done in Washington, DC, this 17th day of September 2019.
Kevin Shea,
Administrator, Animal and Plant Health Inspection Service.

[FR Doc. 2019-20578 Filed 9-23-19; 8:45 am]

BILLING CODE 3410-34-P